DEPARTMENT OF HOMELAND SECURITY

Coast Guard

33 CFR Parts 1, 5, 104, 151, 155, 161, 164, 165, 174, and 175

46 CFR Parts 3, 15, 70, 117, 118, 119, and 147

[Docket No. USCG-2023-0759]

Navigation and Navigable Waters, and Shipping; Technical, Organizational, and Conforming Amendments

AGENCY: Coast Guard, Department of Homeland Security (DHS).

ACTION: Final rule.

SUMMARY: This final rule makes non-substantive, technical, organizational, and conforming amendments to existing Coast Guard regulations. This final rule is a continuation of our practice of periodically issuing rules to keep our regulations up-to-date and accurate. This final rule will have no substantive effect on the regulated public.

DATES: This final rule is effective April 3, 2024.

ADDRESSES: To view documents mentioned in this preamble as being available in the docket, go to www.regulations.gov, type USCG-2023-0759 in the search box and click “Search.” Next, in the Document Type column, select “Supporting & Related Material.”

FOR FURTHER INFORMATION CONTACT: For information about this document, call or email Mr. Dale Murad, Coast Guard; telephone 202-372-3747, email Dale.Murad@uscg.mil.

SUPPLEMENTARY INFORMATION:

Table of Contents for Preamble

I. Abbreviations

II. Regulatory History

III. Basis and Purpose

IV. Discussion of the Rule

A. Authority Citation Updates

B. Technical Amendments to Title 33 of the CFR

C. Technical Amendments to Title 46 of the CFR

V. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards and Incorporation by Reference

M. Environment

I. Abbreviations

CFR Code of Federal Regulations

CG-MER Office of Marine Environmental Response Policy

DDH Document Drafting Handbook

DHS Department of Homeland Security

FR Federal Register

GPO Government Publishing Office

OMB Office of Management and Budget

§ Section

U.S.C. United States Code

II. Regulatory History

We did not publish a notice of proposed rulemaking for this rule. Under Title 5 of the United States Code (U.S.C.), section 553(b)(A), the Coast Guard finds that this final rule is exempt from notice and public comment rulemaking requirements, because these changes involve rules of agency organization, procedure, or practice. In addition, the Coast Guard finds that notice and comment procedures are unnecessary for this final rule under 5 U.S.C. 553(b)(B), as this rule consists of only technical and editorial corrections, and these changes will have no substantive effect on the public. Also, under 5 U.S.C. 553(d)(3), the Coast Guard finds that, for the same reasons, good cause also exists for making this final rule effective upon publication in the Federal Register.

III. Basis and Purpose

This final rule, which becomes effective on April 3, 2024, makes technical and editorial corrections throughout titles 33 and 46 of the Code of Federal Regulations (CFR). These changes are necessary to update authority citations, correct errors, update contact information, and make other non-substantive amendments that improve the clarity of the CFR. This rule does not create or change any substantive requirements.

This final rule is issued under the authorities of 5 U.S.C. 552(a) and 553; 14 U.S.C. 102 and 503; Department of Homeland Security (DHS) Delegation No. 00170.1, Revision No. 01.3; and authorities listed at the end of this rule for each CFR part this rule amends.

IV. Discussion of the Rule

The Coast Guard periodically issues technical, organizational, and conforming amendments to existing regulations in titles 33 and 46 of the CFR. These technical amendments provide the public with accurate and current regulatory information, but do not change the effect of any Coast Guard regulations on the public.

A. Authority Citation Updates

This final rule updates the authority citations in 33 CFR parts 1, 151, 155, 161, 164, and 175, and 46 CFR parts 3, 15, 70, 117, 118, 119, and 147. Specifically, this final rule implements the updates to DHS Delegation No. 00170.1, Revision No. 01.3 in 33 CFR parts 1, 151, 155, 161,164, and 175, and 46 CFR parts 3, 15, 70, 117, 118, 119, and 147.

B. Formatting Amendments To Accompany Technical Amendments in this Document

The Office of the Federal Register's Document Drafting Handbook (DDH) provides guidance on how to follow the formatting and editorial requirements established in 44 U.S.C. chapter 15 (the Federal Register Act) and 1 CFR chapter I. See the Introduction to the DDH, which is at www.archives.gov/files/federal-register/write/handbook/ddh.pdf. At page 2-55, the DDH refers readers to the Government Publishing Office (GPO) Style Manual as a guide for punctuation, capitalization, spelling, compounding, and other style matters not addressed in the DDH.

In a note on page 2-29, the DDH states, “Even if you have only one note, appendix, table, or figure, you must still designate it as `Note 1', `Appendix A', etc.” To comply with this guidance, we have numbered any unnumbered tables and notes, which are otherwise being amended in this document. In an example on page 77, the GPO Style Manual provides that the word “table” should be capitalized when the word is part of the title of the table. The GPO Style Manual is at www.govinfo.gov/content/pkg/GPO-STYLEMANUAL-2016/pdf/GPO-STYLEMANUAL-2016.pdf. To comply with this guidance, we have capitalized the word “table” wherever it is used in these technical amendments as part of the title of the table.

C. Technical Amendments to Title 33 of the CFR

In § 1.05-1(d), this final rule updates language to reflect the new rulemaking delegation memo for rulemakings from Coast Guard Headquarters issued by the Commandant on April 6, 2023. Specifically, these changes reflect current delegations in Commandant Memorandum 16704, which delegates rulemaking authority to the following headquarters individuals and offices: Assistant Commandant of Prevention Policy (CG-5P), the Assistant Commandant for Response Policy (CG-5R), the Assistant Commandant for Resources (CG-8), and the Judge Advocate General (CG-094). The revised language preserves and incorporates verbatim the limitation of this delegation to those regulations determined nonsignificant within the meaning of Executive Order 12866, which had been in what was subparagraph (d)(2). As noted above, the Memo only addresses delegations of rulemaking authorities to headquarters organizations, in this case, those covered in paragraph (d) of 33 CFR 1.05-1; it does not affect delegations to field offices, which are covered in paragraph (e) of § 1.05-1.

In § 5.26(b), this final rule replaces the outdated reference to the Coast Guard Institute with a reference to the Coast Guard Education and Training Quota Management Command. In 2017, the Coast Guard Institute was decommissioned and functionally replaced by the Coast Guard Education and Training Quota Management Command.

In § 104.400(b), this final rule removes an outdated address, as the Marine Safety Center no longer has a location in Arlington, Virginia.

In §§ 151.27 and 151.28, this final rule updates language to reflect the current directorate, office titles, and individuals fulfilling those responsibilities, and corrects mailing, email, and electronic submission addresses. This final rule replaces the outdated “CG-CVC-1” title with “CG-MER” and updates instructions for submitting plans and revisions electronically. It also removes paragraph (h) in both sections. The paragraphs being removed address the use of forms, which are no longer used.

In the note to what is currently labeled “Table 155.1050(k)”, and in §§ 155.1065(h), 155.1070(g), 155.5067(c), 155.5075(a), and 155.5075(b), this final rule removes outdated language and replaces it with the names of current directorates, office titles, and individuals fulfilling those responsibilities. The text “Table 155.1050(k)” has been changed to “Table 1 to § 155.1050(k),” and its note has been changed to “Note 1” in accordance with the DDH. In addition, in §§ 155.1065(h), 155.1070(g), and 155.5075(a) and (b), this final rule removes the text, “Incident Management and Preparedness Policy,” and replaces that text with “Emergency Management.” In addition, it corrects mailing, email, and electronic submission addresses.

In § 155.1065(a), this final rule substitutes “must” for the obsolete term “shall,” in accordance with direction in the Federal Plain Language Guidelines, March 2011, the use of which has been mandated by the Office of Management and Budget (OMB) Memo M-11-15 (Final Guidance on Implementing the Plain Writing Act of 2010). (https://obamawhitehouse.archives.gov/sites/default/files/omb/memoranda/2011/m11-15.pdf.) In addition, in §§ 155.1065(a) and 155.5065(a), this final rule updates instructions for electronically submitting a vessel response plan to the Commandant. It updates the website link for submitting a vessel response plan, and it adds a website link for new user registration (to enable electronic submission). It also updates the postal mailing address to reflect the correct “Stop” number and zip code for the Office of Marine Environmental Response Policy (CG-MER).

In § 155.1065(b), this final rule removes the last sentence of the paragraph, and, in § 155.5065(b), this final rule removes the last two sentences of the paragraph. In § 155.5065(b), the penultimate sentence provides an incorrect website link for submitting a vessel response plan electronically. The substance of this sentence has been moved to paragraph (a), with the correct link substituted for the incorrect link currently provided in the sentence being removed from paragraph (b). The very last sentences of both §§ 155.1065(b) and 155.5065(b) refer to a document which is no longer used, and which is not available at the website linked. The document relates to submissions sent to the postal address for CG-MER. Vessel response plans so submitted need not use the form referred to in the sentence, which has been deleted.

In §§ 161.60(d)(2) and (3), this final rule replaces outdated references to redesignated paragraphs. These revisions align the references with the amendments made to § 161.60 in 67 FR 53742 (August 19, 2002), which redesignated paragraphs (b) through (d) as paragraphs (c) through (e), respectively, and added a new paragraph (b). References to the redesignated paragraphs were not updated in other paragraphs of this section at the time the paragraphs were redesignated.

This final rule revises “Note to paragraph (d)” in § 164.46 to “Note 1 to § 164.46(d)”, in accordance with the DDH. In the same note, this final rule corrects the address of the linked website (which leads to the Navigation Center home page) to take the reader directly to “FAQ #2” on the “AIS Frequently Asked Questions” page, (which is posted elsewhere on the Navigation Center website). FAQ #2 contains a link to the referenced “USCG AIS Encoding Guidance.”

In § 164.70, this final rule replaces the outdated acronym for the Army Corps of Engineers “ACOE” with its new acronym, “USACE.”

In § 165.840(a), this final rule updates the coordinates to the entrance of Egmont Channel to its correct location of 28°56′12.619″ N, 088°58′10.303″ W.

In § 165.1704(c), this final rule replaces the reference to § 161.60(c) with the corrected reference to § 161.60(d). As noted in the amendments to § 161.60, 67 FR 53742 redesignated paragraphs (b) through (d) in § 161.60 as paragraphs (c) through (e), respectively, while adding a new paragraph (b). However, references to the redesignated paragraphs were not updated in other sections, which this rule corrects.

This final rule removes paragraph (c) in §§ 174.17 and 174.19, as both paragraphs contained outdated and no longer applicable information on vessel numbering.

In § 175.380(a), this final rule replaces the reference to “table 2 to § 175.320(b)(1)” with a reference to “Table 4.” There is no “table 2 to § 175.320.” Paragraph (a) of § 175.380 involves fire extinguisher capacity, and “Table 4 to § 175.320(b)(1)”, which establishes the number and size of portable fire extinguishers required aboard a recreational vessel more than 65 feet in length, is the correct reference.

D. Technical Amendments to Title 46 of the CFR

In § 3.03-1, this final rule replaces a reference to the definition of oceanographic research vessel in “46 U.S.C. 2101(18)” with “46 U.S.C. 2101.” Section 2101 contains a list of definitions in alphabetical order, and because new terms have been added to those already there, the numbering of the subsections in § 2101 has changed. The definition of “major conversion” is now found at 46 U.S.C. 2101(18) and the definition of “oceanographic research vessel” has moved to 46 U.S.C. 2101(24). We have decided not to specify the subsection in the replacement language, as subsection numbers are likely to continue to change as additional definitions are included in 46 U.S.C. 2101. In §§ 15.605(a) and (b), this final rule replaces outdated references in the statutory definition of “uninspected passenger vessel” with the correct reference. Congress added more definitions to 46 U.S.C. 2101 since 46 CFR 15.605 was published. And since definitions are listed there in alphabetical order, subsection numbers have changed.

As §§ 15.605(a) and (b) no longer reference the correct subparagraphs for the statutory definition for “uninspected passenger vessel,” this final rule replaces “46 U.S.C. 2101(42)(A)” with “46 U.S.C. 2101(53)(A)” in § 15.605(a), and with “46 U.S.C. 2101(53)(B)” in § 15.605(b). Here, we have retained the subparagraph numbers “(53)(A)” and “(53)(B)”, because the requirements differ depending on which subsection of § 2101 applies.

In §§ 70.05-1(a) and 70.05-3(a), this final rule updates language and corrects a table reference. Originally, § 70.05-3(a) referred to “column 4 of table 70.05-1(a),” which existed when the rule was originally published (on December 30, 1965, at 30 FR 16892), but no such table exists today. The correct reference today is to “column 3 of Table 2.01-7(a).” In § 70.05-1(a), this final rule adds a reference to that table as well.

In §§ 117.71(d), 118.115(b), and 119.115(c), this final rule removes implementation deadlines for certain life jackets that have passed and are no longer relevant. This rule also adjusts and removes language in § 117.71(d) to reflect the removal of these outdated implementation deadlines.

In § 147.50(d), which provides that “[l]iquefied or non-liquefied gas is prohibited for cooking, heating, and lighting on ferry vessels, but may be used on other inspected vessels if the system in which it is used meets the applicable requirements of subpart 58.16 or subpart 184.05 of this chapter. . .,” this final rule replaces “subpart 184.05” with “subpart B of part 184 of this chapter.” The reference to “subpart 184.05” was added to § 147.50 in 1989 (54 FR 6396, 6402, Feb. 10, 1989). In 1996, we issued a rule (61 FR 864, 933, Jan. 10, 1996) that completely revised our regulations affecting small passenger vessels, including those in 46 CFR part 184. Subpart 184.05 became subpart b of part 184.

V. Regulatory Analyses

We developed this final rule after considering numerous statutes and Executive orders related to rulemaking. Below we summarize our analyses based on these statutes or Executive orders.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

The OMB has not designated this rule a significant regulatory action under section 3(f) of Executive Order 12866, as amended by Executive Order 14094 (Modernizing Regulatory Review), and will not affect the Coast Guard's budget or increase Federal spending. A regulatory analysis follows.

This final rule involves non-substantive technical amendments and internal agency practices and procedures; it will not impose any additional costs. The technical amendments in this final rule fit into categories that involve (1) correcting inadvertent typographical errors in the CFR; (2) modifying existing language in the CFR by addition or subtraction to improve the readability or clarity of regulations; (3) removing irrelevant information, such as expired regulatory provisions or cancelled reference material, and replacing outdated regulatory information with current information where applicable; and (4) revising office contact information and mailing addresses. The Coast Guard does not expect that there will be any additional costs conferred on the public or the Federal Government, because none of the technical and editorial changes included in this final rule will change existing regulatory requirements. A summary of these amendments by category and by CFR title and section are presented below in table 1.

The unquantified benefits of the non-substantive technical amendments are increased accuracy of regulatory information by correcting erroneous information, and improved readability and clarity of regulations by removing redundant or confusing language and by removing expired or cancelled provisions that are no longer relevant. In addition, correcting technical items such as office contact details and location coordinates will improve the ability to reference and contact the correct entities.

Table 1—Summary of Regulatory Changes by CFR Title and Section
CFR title | CFR section | Description of changes | Economic impact
33 | § 1.05-1(d) | Reflects changes brought on by the 2023 memo issued by the Commandant that revised the delegation memo for rulemakings | Improves readability by removing or replacing irrelevant and outdated information.
46 | §§ 3.03-1, 15.605(a), 15.605(b), 117.71(d), 118.115(b), 119.115(c), 147.50(d) | Removes outdated instructions and replaces it with updated locations, websites, and email addresses | Improves readability by removing or replacing irrelevant and outdated information.
33 | §§ 5.26(b), 104.400(b) | Removes outdated instructions and replaces it with updated locations, websites, and email addresses | Improves readability by removing or replacing irrelevant and outdated information.
| §§ 155.1050(k), 155.1065(a), 155.1065(b), 155.1065(h), 155.1070(g), 155.5065(a), 155.5065(b), 155. 5067(c), 155.5075(a), 155.5075(b), 155.1065(a), 161.60(d)(2), 161.60(d)(3), 161.60(d)(4), 164.46(d)(4), 174.17, 174.19 | Removes outdated instructions and replaces it with updated locations, websites, and email addresses | Improves readability by removing or replacing irrelevant and outdated information.
46 | §§ 70.05-1(a), 70.05-3(a) | Improves the accuracy of regulatory information by correcting erroneous information | Corrects various typographical errors.
33 | §§ 151.27, 151.28, 165.1704(c) | Adds clarifying language and removes redundant, confusing, or incorrect language | Improves readability by removing or replacing irrelevant and outdated information.
| § 164.70 | Improves the accuracy of regulatory information by correcting erroneous information | Improves readability by removing or replacing irrelevant and outdated information.
| § 165.173, 165.840(a), 175.380(a) | Improves the accuracy of regulatory information by correcting erroneous information | Corrects information and conforms text to DDH formatting guidelines.

B. Small Entities

The Regulatory Flexibility Act of 1980 (RFA), 5 U.S.C. 601-612, requires federal agencies to consider the potential impact on small entities when they issue a rule after being required to first publish a general notice of proposed rulemaking. Under 5 U.S.C. 604(a), a regulatory flexibility analysis is not required for this final rule because under provision in 553(b)(B) we were not required to publish a general notice of a proposed rulemaking. Therefore, we did not conduct a regulatory flexibility analysis for this rule.

C. Assistance for Small Entities

Under section 213(a) of the Small Business Regulatory Enforcement Fairness Act of 1996, Public Law 104-121, we offer to assist small entities in understanding this final rule so that they can better evaluate its effects on them and participate in the rulemaking. The Coast Guard will not retaliate against small entities that question or complain about this final rule or any policy or action of the Coast Guard.

D. Collection of Information

This final rule calls for no new collection of information nor does it change any existing collection of information under the Paperwork Reduction Act of 1995, 44 U.S.C. 3501-3520.

E. Federalism

A final rule has implications for federalism under Executive Order 13132 (Federalism) if it has a substantial direct effect on States, on the relationship between the National Government and the States, or on the distribution of power and responsibilities among the various levels of government. We have analyzed this final rule under Executive Order 13132 and have determined that it is consistent with the fundamental federalism principles and preemption requirements described in Executive Order 13132.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this final rule will not result in such expenditure, we do discuss the effects of this final rule elsewhere in this preamble.

G. Taking of Private Property

This final rule will not cause a taking of private property or otherwise have taking implications under Executive Order 12630 (Governmental Actions and Interference with Constitutionally Protected Property Rights).

H. Civil Justice Reform

This final rule meets applicable standards in sections 3(a) and 3(b)(2) of Executive Order 12988 (Civil Justice Reform) to minimize litigation, eliminate ambiguity, and reduce burden.

I. Protection of Children

We have analyzed this final rule under Executive Order 13045 (Protection of Children from Environmental Health Risks and Safety Risks). This final rule is not an economically significant rule and will not create an environmental risk to health or risk to safety that might disproportionately affect children.

J. Indian Tribal Governments

This final rule does not have tribal implications under Executive Order 13175 (Consultation and Coordination with Indian Tribal Governments), because it will not have a substantial direct effect on one or more Indian tribes, on the relationship between the Federal Government and Indian tribes, or on the distribution of power and responsibilities between the Federal Government and Indian tribes.

K. Energy Effects

We have analyzed this final rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards and Incorporation by Reference

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (for example, specifications of materials, performance, design, or operation; test methods; sampling procedures; and related management systems practices) that are developed or adopted by voluntary consensus standards bodies.

This final rule does not use technical standards. Therefore, we did not consider the use of voluntary consensus standards.

M. Environment

We have analyzed this final rule under DHS Management Directive 023-01, Rev. 1, associated implementing instructions, and Environmental Planning COMDTINST 5090.1 (series), which guide the Coast Guard in complying with the National Environmental Policy Act of 1969 (42 U.S.C. 4321-4370f), and have made a determination that this action is one of a category of actions that do not individually or cumulatively have a significant effect on the human environment. A Record of Environmental Consideration supporting this determination is available in the docket. For instructions on locating the docket, see the ADDRESSES section of this preamble. This final rule is categorically excluded under paragraph A3 and L54 of Appendix A, Table 1 of DHS Instruction Manual 023-01-001-01, Rev 1. Paragraph A3 pertains to “Promulgation of rules, issuance of rulings or interpretations, and the development and publication of policies, orders, directives, notices, procedures, manuals, advisory circulars, and other guidance documents of the following nature: (a) Those of a strictly administrative or procedural nature; (b) Those that implement, without substantive change, statutory or regulatory requirements; (c) Those that implement, without substantive change, procedures, manuals, and other guidance documents; (d) Those that interpret or amend an existing regulation without changing its environmental effect; (e) Technical guidance on safety and security matters; or (f) Guidance for the preparation of security plans.” Paragraph L54 pertains to “Regulations which are editorial or procedural, such as those updating addresses or establishing application procedures.” This final rule makes non-substantive technical, organizational, and conforming amendments to existing Coast Guard regulations.

This final rule is a continuation of our practice of periodically issuing rules to keep our regulations up-to-date and accurate. This final rule will have no substantive effect on the regulated public.

List of Subjects

33 CFR Part 1

Administrative practice and procedure, Authority delegations (Government agencies), Freedom of information, Penalties.

33 CFR Part 5

Volunteers.

33 CFR Part 104

Maritime security, Reporting and recordkeeping requirements, Security measures.

33 CFR Part 151

Administrative practice and procedure, Oil pollution, Penalties, Reporting and recordkeeping requirements, Water pollution control.

33 CFR Part 155

Alaska, Hazardous substances, Oil pollution, Reporting and recordkeeping requirements.

33 CFR Part 161

Harbors, Navigation (water), Reporting and recordkeeping requirements, Vessels, Waterways.

33 CFR Part 164

Marine, Navigation (water), Reporting and recordkeeping requirements, Waterways.

33 CFR Part 165

Harbors, Marine safety, Navigation (water), Reporting and recordkeeping requirements, Security measures, Waterways.

33 CFR Part 174

Intergovernmental relations, Marine safety, Reporting and recordkeeping requirements.

33 CFR Part 175

Fire prevention, Marine safety.

46 CFR Part 3

Oceanographic research vessels, Reporting and recordkeeping requirements, Research.

46 CFR Part 15

Reporting and recordkeeping requirements, Seamen, Vessels.

46 CFR Part 70

Marine safety, Passenger vessels, Reporting and recordkeeping requirements.

46 CFR Part 117

Marine safety, Passenger vessels.

46 CFR Part 118

Fire prevention, Marine safety, Passenger vessels, Reporting and recordkeeping requirements.

46 CFR Part 119

Fire prevention, Marine safety, Passenger vessels.

46 CFR Part 147

Hazardous materials transportation, Labeling, Marine safety, Packaging and containers, Reporting and recordkeeping requirements.

For the reasons discussed in the preamble, the Coast Guard amends 33 CFR part 1, 5, 104, 151, 155, 161,164, 165, 174, and 175 and 46 CFR parts 3, 15, 70, 117, 118, 119, and 147 as follows:

Title 33—Navigation and Navigable Waters

PART 1—GENERAL PROVISIONS

1. The authority citation for part 1 is revised to read as follows:

Authority: 14 U.S.C. 502, 503, 505; 33 U.S.C. 401, 491, 525, 1321, 2716, and 2716a; 42 U.S.C. 9615; 49 U.S.C. 322; DHS Delegation No. 00170.1, Revision No. 01.3.; section 1.01-70 also issued under the authority of E.O. 12580, 3 CFR, 1987 Comp., p. 193; and sections 1.01-80 and 1.01-85 also issued under the authority of E.O. 12777, 3 CFR, 1991 Comp., p. 351.

2. Revise § 1.05-1(d) to read as follows:

§ 1.05-1 Delegation of rulemaking authority.

* * * * *

(d) The Commandant has redelegated the authority to develop and issue those regulations necessary to implement laws, treaties, and Executive orders to the Assistant Commandant for Prevention Policy, the Assistant Commandant for Response Policy, the Assistant Commandant for Resources, and the Judge Advocate General. The authority redelegated in this paragraph is limited to those regulations determined to be nonsignificant within the meaning of Executive Order 12866.

* * * * *

PART 5—COAST GUARD AUXILIARY

3. The authority citation for part 5 continues to read as follows:

Authority: 14 U.S.C. 503, 3901, 3902, 3903, 3904, 3905, 3907, 3908, 3909, 3910, 3911, 3912, 3913, 4102.

§ 5.26 [Amended]

4. In § 5.26(b), remove the words “Coast Guard Institute” and add, in their place, the words “Coast Guard Education and Training Quota Management Command”.

PART 104—MARITIME SECURITY: VESSELS

5. The authority citation for part 104 continues to read as follows:

Authority: 46 U.S.C. 70051, 70116, Chapter 701; 33 CFR 1.05-1, 6.04-11, 6.14, 6.16, and 6.19; DHS Delegation No. 00170.1, Revision No. 01.3.

§ 104.400 [Amended]

6. In § 104.400(b), remove the text “, 4200 Wilson Boulevard Suite 400, Arlington, VA 22203 for visitors”.

PART 151—VESSELS CARRYING OIL, NOXIOUS LIQUID SUBSTANCES, GARBAGE, MUNICIPAL OR COMMERCIAL WASTE, AND BALLAST WATER

7. The authority citation for part 151 is revised to read as follows:

Authority: 33 U.S.C. 1902, 1903, 1908; 46 U.S.C. 6101; 46 U.S.C. 70034; Pub. L. 104-227, 110 Stat. 3034; sec. 623, Pub. L. 108-293, 118 Stat. 1063; E.O. 12777, 56 FR 54757, 3 CFR, 1991 Comp., p. 351; DHS Delegation No. 00170.1, Revision No. 01.3.

8. Amend § 151.27 as follows:

a. Revise paragraphs (b) and (g); and

b. Remove paragraph (h).

The revisions read as follows:

§ 151.27 Plan submission and approval.

* * * * *

(b) An owner or operator of a ship to which this part applies shall prepare and submit one English language copy of the shipboard oil pollution emergency plan electronically at https://vrp.uscg.mil/homeport-vrp/vrp-express/ by signing in using the registered email address and password or by email to vrp@uscg.mil. For new user registrations, please follow the process provided in the United States Coast Guard Homeport website at https://homeport.uscg.mil/Pages/NewUserRegistration.aspx.or by mail to Commandant (CG-MER), Attn: Vessel Response Plans, U.S. Coast Guard Stop 7501, 2703 Martin Luther King Jr. Avenue SE, Washington, DC 20593-7501.

* * * * *

(g) Plans, including revisions, should be submitted electronically by using the Vessel Response Plan Electronic Submission Tool available at https://vrp.uscg.mil/homeport-vrp/vrp-express/ for registered users or by mail to Commandant (CG-MER), Attn: Vessel Response Plans, U.S. Coast Guard Stop 7516, 2703 Martin Luther King Jr. Avenue SE, Washington, DC 20593-7516 or by email to vrp@uscg.mil.

9. Amend § 151.28 as follows:

a. Remove the text “CG-CVC-1”, wherever it appears, and add, in its place, the text “CG-MER”;

b. Revise paragraph (g); and

c. Remove paragraph (h).

The revision reads as follows:

§ 151.28 Plan review and revision.

* * * * *

(g) Plans, including revisions, should be submitted electronically by using the Vessel Response Plan Electronic Submission Tool available at https://vrp.uscg.mil/homeport-vrp/vrp-express/ for registered users or by mail to Commandant (CG-MER), Attn: Vessel Response Plans, U.S. Coast Guard Stop 7516, 2703 Martin Luther King Jr. Avenue SE, Washington, DC 20593-7516 or by email to vrp@uscg.mil.

PART 155—OIL OR HAZARDOUS MATERIAL POLLUTION PREVENTION REGULATIONS FOR VESSELS

10. The authority citation for part 155 is revised to read as follows:

Authority: 3 U.S.C. 301 through 303; 33 U.S.C. 1321(j), 1903(b), 2735; 46 U.S.C. 70011; 70034; E.O. 12777, 56 FR 54757, 3 CFR, 1991 Comp., p. 351; DHS Delegation No. 00170.1, Revision No. 01.3. Section 155.1020 also issued under section 316 of Pub. L. 114-120. Section 155.480 also issued under section 4110(b) of Pub. L. 101-380.

§ 155.1050 [Amended]

11. Amend § 155.1050(k) by:

a. Removing the text “Table 155.1050(k)” and adding, in its place, the text “Table 1 to § 155.1050(k)”;

b. In the new “Table 1 to § 155.1050(k)”, removing the text “Note” and adding, in its place, the text “Note 1”; and

c. In the new “Note 1 to Table 1 to § 155.1050(k)”, removing the text “Office of Incident Management & Preparedness (CG-533)” and adding, in its place, the text “Office of Marine Environmental Response Policy (CG-MER)”.

§ 155.1065 [Amended]

12. Amend § 155.1065 as follows:

a. Revise paragraphs (a) and (b); and

b. In paragraph (h), remove the words “Incident Management and Preparedness Policy” whenever they appear, and add, in their place, the words “Emergency Management”.

The revision reads as follows:

§ 155.1065 Procedures for plan submission, approval, requests for acceptance of alternative planning criteria, and appeal.

(a) An owner or operator of a vessel to which this subpart applies must submit one complete English language copy of a vessel response plan to Commandant electronically by using the Vessel Response Plan Electronic Submission Tool available at https://vrp.uscg.mil/homeport-vrp/vrp-express/ by signing in using the registered email address and password, or by email to vrp@uscg.mil, or by mail to Commandant (CG-MER), Attn: Vessel Response Plans, U.S. Coast Guard Stop 7516, 2703 Martin Luther King Jr. Avenue SE, Washington, DC 20593-7516. For new Homeport user email address and password registrations (to enable electronic submissions), please follow the process provided in the United States Coast Guard Homeport website at https://homeport.uscg.mil/Pages/NewUserRegistration.aspx. The plan must be submitted at least 60 days before the vessel intends to handle, store, transport, transfer, or lighter oil in areas subject to the jurisdiction of the United States.

(b) The owner or operator must include a statement certifying that the plan meets the applicable requirements of subparts D, E, F, G, and J of this part and shall include a statement indicating whether the vessel(s) covered by the plan are manned vessels carrying oil as a primary cargo, unmanned vessels carrying oil as a primary cargo, or vessels carrying oil as a secondary cargo.

* * * * *

§ 155.1070 [Amended]

13. In § 155.1070(g), remove the words “Incident Management and Preparedness Policy” whenever they appear, and add, in their place, the words “Emergency Management”.

14. Amend § 155.5065 by revising paragraphs (a) and (b) to read as follows:

§ 155.5065 Procedures for plan submission and approval.

(a) An owner or operator of a nontank vessel to which this subpart applies must submit one complete English language copy of a vessel response plan to Commandant electronically by using the Vessel Response Plan Electronic Submission Tool for registered users available at https://vrp.uscg.mil/homeport-vrp/vrp-express/ or by mail to Commandant (CG-MER), Attn: Vessel Response Plans, U.S. Coast Guard Stop 7516, 2703 Martin Luther King Jr. Avenue SE, Washington, DC 20593-7516 or by email to vrp@uscg.mil. The plan must be submitted at least 60 days before the vessel intends to operate upon the navigable waters of the United States.

(b) The owner or operator of a nontank vessel must include a statement certifying that the VRP meets the applicable requirements of this subpart and the requirements of subparts D, E, F, and G, if applicable. The vessel owner or operator must also include a statement certifying that the vessel owner or operator has ensured the availability of, through contract or other approved means, the necessary private response resources to respond, to the maximum extent practicable, to a worst-case discharge or substantial threat of such a discharge from their vessel as required under this subpart.

* * * * *

§ 155.5067 [Amended]

15. In § 155.5067(c), remove the text “(CG-CVC), Office of Commercial Vessel Compliance” and add, in its place, the text “(CG-MER), Office of Marine Environmental Response Policy”.

§ 155.5075 [Amended]

16. In § 155.5075(a) and (b), remove the words “Incident Management and Preparedness Policy” whenever they appear, and add, in their place, the words “Emergency Management”.

PART 161—VESSEL TRAFFIC MANAGEMENT

17. The authority citation for part 161 is revised to read as follows:

Authority: 46 U.S.C. 70001, 70002, 70003, 70034, 70114, 70119; Pub. L. 107-295, 116 Stat. 2064; DHS Delegation No. 00170.1, Revision No. 01.3.

§ 161.60 [Amended]

18. Amend § 161.60 as follows:

a. In paragraph (d)(2), remove the text “(c)(3)” and add, in its place, the text “(d)(3)”; and

b. In paragraph (d)(3), remove the text “(c)(2)” and add, in its place, the text “(d)(2)”.

PART 164—NAVIGATION SAFETY REGULATIONS

19. The authority citation for part 164 is revised to read as follows:

Authority: 46 U.S.C. 2103, 3703, 70034; E.O. 12234, 45 FR 58801, 3 CFR, 1980 Comp., p. 277. Sec. 164.13 also issued under 46 U.S.C. 8502. Sec. 164.46 also issued under 46 U.S.C. 70114 and Sec. 102 of Pub. L. 107-295. Sec. 164.61 also issued under 46 U.S.C. 6101. DHS Delegation No. 00170.1, Revision No. 01.3.

§ 164.46 [Amended]

20. In § 164.46(d), remove the text “Note to paragraph (d)” and add, in its place, the text “Note 1 to § 164.46(d)”; remove the text “U.S. AIS Encoding Guide” and add, in its place, the text “USCG AIS Encoding Guidance”; and remove the text “www.navcen.uscg.gov” and add, in its place, the text “www.navcen.uscg.gov/ais-frequently-asked-questions#2”.

§ 164.70 [Amended]

21. In § 164.70, amend the definition “Currently corrected edition” by removing the text “(ACOE)” and adding, in its place, the text “(USACE)”.

PART 165—REGULATED NAVIGATION AREAS AND LIMITED ACCESS AREAS

22. The authority citation for part 165 continues to read as follows:

Authority: 46 U.S.C. 70034, 70051, 70124; 33 CFR 1.05-1, 6.04-1, 6.04-6, and 160.5; Department of Homeland Security Delegation No. 00170.1, Revision No. 01.3.

§ 165.840 [Amended]

23. In § 165.840(a), remove the text “008°58′10.303″ W” and add, in its place, the text “088°58′10.303″ W”.

§ 165.1704 [Amended]

24. In § 165.1704(c), remove the text “§ 161.60(c)” and add, in its place, the text “§ 161.60(d)”.

PART 174—STATE NUMBERING AND CASUALTY REPORTING SYSTEMS

25. The authority citation for part 174 continues to read as follows:

Authority: 46 U.S.C. 6101 and 12302; DHS Delegation No. 00170.1, Revision No. 01.3.

§ 174.17 [Amended]

26. Remove § 174.17(c).

§ 174.19 [Amended]

27. Remove § 174.19(c).

PART 175—EQUIPMENT REQUIREMENTS

28. The authority citation for part 175 is revised to read as follows:

Authority: 46 U.S.C. 4302; DHS Delegation No. 00170.1, Revision No. 01.3.

§ 175.380 [Amended]

29. In § 175.380(a), remove the text “table 2” and add, in its place, the text “Table 4”.

Title 46—Shipping

PART 3—DESIGNATION OF OCEANOGRAPHIC RESEARCH VESSELS

30. The authority citation for part 3 is revised to read as follows:

Authority: 46 U.S.C. 2113, 3306; DHS Delegation No. 00170.1, Revision No. 01.3.

§ 3.03-1 [Amended]

31. In § 3.03-1, remove the text “46 U.S.C. 2101(18)” and add, in its place, the text “46 U.S.C. 2101”.

PART 15—MANNING REQUIREMENTS

32. The authority citation for part 15 is revised to read as follows:

Authority: 46 U.S.C. 2101, 2103, 3306, 3703, 8101, 8102, 8103, 8104, 8105, 8301, 8304, 8502, 8503, 8701, 8702, 8901, 8902, 8903, 8904, 8905(b), 8906 and 9102; and DHS Delegation No. 00170.1, Revision No. 01.3.

§ 15.605 [Amended]

33. Amend § 15.605 by:

a. In paragraph (a), removing the text remove the text “46 U.S.C. 2101(42)(A)” and add, in its place, the text “46 U.S.C. 2101(53)(A)”; and

b. In paragraph (b), removing the text remove the text “46 U.S.C. 2101(42)(B)” and add, in its place, the text “46 U.S.C. 2101(53)(B)”.

PART 70—GENERAL PROVISIONS

34. The authority citation for part 70 is revised to read as follows:

Authority: 46 U.S.C. 2103, 3306, 3703; E.O. 12234, 45 FR 58801, 3 CFR, 1980 Comp., p. 277, sec. 1-105; DHS Delegation No. 00170.1, Revision No. 01.3.

35. Revise § 70.05-1(a) introductory text to read as follows:

§ 70.05-1 United States flag vessels subject to the requirements of this subchapter.

(a) This subchapter is applicable to all U.S.-flag vessels indicated in column 3 of Table 2.01-7(a) in § 2.01-7(a) of this chapter that are 100 gross tons or more, except as follows:

* * * * *

36. Revise § 70.05-3(a) introductory text to read as follows:

§ 70.05-3 Foreign vessels subject to the requirements of this subchapter.

(a) Except as specifically noted in paragraphs (b), (e), and (f) of this section, parts 70 to 78, inclusive, of this subchapter, are applicable to the extent prescribed by law to all foreign vessels of the following classifications indicated in column 3 of Table 2.01-7(a) in § 2.01-7(a) of this chapter that are 100 gross tons or over:

* * * * *

PART 117—LIFESAVING EQUIPMENT AND ARRANGEMENTS

37. The authority citation for part 117 is revised to read as follows:

Authority: 46 U.S.C. 2103, 3306; E.O. 12234, 45 FR 58801, 3 CFR, 1980 Comp., p. 277; DHS Delegation No. 00170.1, Revision No. 01.3.

38. Amend § 117.71 by revising paragraph (d) to read as follows:

§ 117.71 Life jackets.

* * * * *

(d) Cork and balsa wood life jackets previously approved in accordance with § 106.003 or § 160.004 in subchapter Q of this chapter may not be used to meet the requirements of this section.

* * * * *

PART 118—FIRE PROTECTION EQUIPMENT

39. The authority citation for part 118 is revised to read as follows:

Authority: 46 U.S.C. 2103, 3306; E.O. 12234, 45 FR 58801, 3 CFR, 1980 Comp., p. 277; DHS Delegation No. 00170.1, Revision No. 01.3.

§ 118.115 [Amended]

40. In § 118.115(b), remove the text “on or before March 11, 1999”.

PART 119—MACHINERY INSTALLATION

41. The authority citation for part 119 is revised to read as follows:

Authority: 46 U.S.C. 2103, 3306; E.O. 12234, 45 FR 58801, 3 CFR, 1980 Comp., p. 277; DHS Delegation No. 00170.1, Revision No. 01.3.

§ 119.115 [Amended]

42. In § 119.115(c), remove the text “On or before March 11, 1999, an” and add, in its place, the text “An”.

PART 147—HAZARDOUS SHIPS' STORES

43. The authority citation for part 147 is revised to read as follows:

Authority: 46 U.S.C. 3306; E.O. 12234, 45 FR 58801, 3 CFR, 1980 Comp., p. 277; DHS Delegation No. 00170.1, Revision No. 01.3.

§ 147.50 [Amended]

44. In § 147.50(d), remove the text “subpart 184.05” and add, in its place, the text “subpart B of part 184 of this chapter.”

Dated: March 28, 2024.
Michael T. Cunningham,
Chief, Office of Regulations and Administrative Law.

[FR Doc. 2024-06922 Filed 4-2-24; 8:45 am]

BILLING CODE 9110-04-P